DEPARTMENT OF ENERGY

Federal Energy Regulatory Commission

[Project No. 2744-050]

North East Wisconsin Hydro, LLC; Notice of Drawdown, Temporary Variance and Soliciting Comments

Take notice that the following hydroelectric application has been filed with the Commission and is available for public inspection:

a. Application Type: Drawdown of the Park Mill Power Canal.

b. Project No.: 2744-050.

c. Date Filed: August 5, 2019.

d. Applicant: North East Wisconsin Hydro, LLC.

e. Name of Project: Menominee and Park Mill Hydroelectric Project.

f. Location: The project is located on the Menominee River in Menominee County, Michigan, and Marinette County, Wisconsin.

g. Filed Pursuant to: Federal Power Act, 16 U.S.C. 791 (a)-825(r).

h. Applicant Contact: Mr. Michael Scarzello, North East Wisconsin Hydro, LLC, c/o Eagle Creek Renewable Energy, 116 North State Street, P.O. Box 167, Neshkoro, WI 54960-0167, (973) 998-8400.

i. FERC Contact: Aneela Mousam, (202) 502-8357, aneela.mousam@ferc.gov.

j. Deadline for filing comments is 15 days from the issuance date of this notice by the Commission.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2744-050. Comments emailed to Commission staff are not considered part of the Commission record.

k. Description of Request: The licensee is requesting to conduct a drawdown of the Park Mill Power Canal as soon as possible, while it finalizes the Drawdown Plan required by Article 404 of the license. The licensee must lower the water surface elevation of the project's 2,400-foot-long power canal by approximately 18 feet to complete turbine maintenance/repairs on several units currently out of service. The license proposes a drawdown rate of 1.0 feet per 24-hour with no more than 0.5 feet drop in any 8-hour period. The drawdown, repair and refill is estimated to span nine week. The licensee has consulted with the Wisconsin and Michigan Departments of Natural Resources, and the U.S. Fish and Wildlife Service.

l. Locations of the Application: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments: Anyone may submit comments in accordance with the requirements of Rules of Practice and Procedure, 18 CFR 385.210, .211, .214. Any comments must be received on or before the specified comment date for the particular application.

o. Filing and Service of Documents: Any filing must (1) bear in all capital letters the title COMMENTS, as applicable; (2) set forth in the heading the name of the applicant and the project number of the application to which the filing responds; (3) furnish the name, address, and telephone number of the person commenting; and (4) otherwise comply with the requirements of 18 CFR 385.2001 through 385.2005. All comments must set forth their evidentiary basis. A copy of all other filings in reference to this application must be accompanied by proof of service on all persons listed in the service list prepared by the Commission in this proceeding, in accordance with 18 CFR 385.2010.

Dated: August 19, 2019.
Kimberly D. Bose,
Secretary.

[FR Doc. 2019-19068 Filed 9-3-19; 8:45 am]

BILLING CODE 6717-01-P